DEPARTMENT OF COMMERCE

Foreign-Trade Zones Board

[Order No. 1116]

Extension of Nonprivileged Status Authority, Oil Refinery Subzones

Pursuant to its authority under the Foreign-Trade Zones Act of June 18, 1934, as amended (19 U.S.C. 81a-81u), the Foreign-Trade Zones Board (the Board) adopts the following Order:

Whereas, by an Act of Congress approved June 18, 1934, an Act “To provide for the establishment . . . of foreign-trade zones in ports of entry of the United States, to expedite and encourage foreign commerce, and for other purposes,” as amended (19 U.S.C. 81a-81u) (the Act), the Foreign-Trade Zones Board (the Board) is authorized to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Board approved the oil refinery/petrochemical complex subzones listed below to conduct certain activity under zone procedures, subject to product and time restrictions;

Whereas, applications were submitted from the FTZ grantees of the subzones listed below, requesting a time extension of authority to elect nonprivileged foreign status (NPF) on crude oil and related products used in the production of certain petrochemical feedstocks and refinery by-products at the crude oil refineries/petrochemical complexes of the listed subzones;

Whereas, the applications were filed by the Board on August 23, 1999, and notice describing the applications and inviting public comment was given in the Federal Register (FTZ Docket 41-99, 64 FR 48140, 9/2/99); and,

Whereas, the Board adopts the findings and recommendations of the examiner's report, and finds that the requirements of the FTZ Act and Board's regulations would be satisfied, and that approval of the applications would be in the public interest if approval is subject to the conditions listed below;

Now, therefore, the Board hereby amends the Board Orders listed below, authorizing an extension of authority for the listed subzones, subject to the FTZ Act and the Board's regulations, including § 400.28, and further subject to the following conditions:

1. Foreign status (19 CFR 146.41, 146.42) products consumed as fuel for the refinery shall be subject to the applicable duty rate.

2. Privileged foreign status (19 CFR 146.41) shall be elected on all foreign merchandise admitted to the subzone, except that non-privileged foreign (NPF) status (19 CFR 146.42) may be elected on refinery inputs covered under HTSUS Subheadings #2709.00.1000- #2710.00.1050, #2710.00.2500 and #2710.00.4510 which are used in the production of:

—petrochemical feedstocks and refinery by-products (examiner's report, Appendix “C”);

—products for export;

—and, products eligible for entry under HTSUS #9808.00.30 and #9808.00.40 (U.S. Government purchases).

Subzone | Order | Docket No.
2H | 791 | Doc. 41(1)-99
2I | 821 | Doc. 41(2)-99
2J | 895 | Doc. 41(3)-99
3B | 974 | Doc. 41(4)-99
8F | 822 | Doc. 41(5)-99
8G | 822 | Doc. 41(6)-99
9E | 769 | Doc. 41(7)-99
20C | 761 | Doc. 41(8)-99
22I | 779 | Doc. 41(9)-99
22J | 960 | Doc. 41(10)-99
31B | 878 | Doc. 41(11)-99
35C | 838 | Doc. 41(12)-99
35D | 891 | Doc. 41(13)-99
47B | 865 | Doc. 41(14)-99
49E | 792 | Doc. 41(15)-99
49F | 880 | Doc. 41(16)-99
70T | 879 | Doc. 41(17)-99
82F | 921 | Doc. 41(18)-99
82G | 962 | Doc. 41(19)-99
84F | 770 | Doc. 41(20)-99
84J | 785 | Doc. 41(21)-99
84N | 793 | Doc. 41(22)-99
84O | 837 | Doc. 41(23)-99
84P | 961 | Doc. 41(24)-99
84Q | 975 | Doc. 41(25)-99
87A | 808 | Doc. 41(26)-99
87B | 760 | Doc. 41(27)-99
92D | 747 | Doc. 41(28)-99
99E | 831 | Doc. 41(29)-99
104C | 805 | Doc. 41(30)-99
115B | 780 | Doc. 41(31)-99
116A | 740 | Doc. 41(32)-99
116B | 772 | Doc. 41(33)-99
116C | 848 | Doc. 41(34)-99
122A | 782 | Doc. 41(35)-99
122C | 765 | Doc. 41(36)-99
122I | 759 | Doc. 41(37)-99
122J | 771 | Doc. 41(38)-99
122L | 768 | Doc. 41(39)-99
122M | 1031 | Doc. 41(40)-99
124A | 825 | Doc. 41(41)-99
124C | 739 | Doc. 41(42)-99
124E | 773 | Doc. 41(43)-99
124F | 839 | Doc. 41(44)-99
142A | 790 | Doc. 41(45)-99
142B | 806 | Doc. 41(46)-99
142C | 894 | Doc. 41(47)-99
146D | 781 | Doc. 41(48)-99
149C | 920 | Doc. 41(49)-99
149E | 999 | Doc. 41(50)-99
152B | 762 | Doc. 41(51)-99
154A | 847 | Doc. 41(52)-99
161B | 862 | Doc. 41(53)-99
181A | 864 | Doc. 41(54)-99
199A | 731 | Doc. 41(55)-99
199B | 830 | Doc. 41(56)-99
199C | 863 | Doc. 41(57)-99
202B | 959 | Doc. 41(58)-99

Signed at Washington, DC, this 24th day of August 2000.
Troy H. Cribb,
Acting Assistant Secretary of Commerce for Import Administration, Alternate Chairman, Foreign-Trade Zones Board.

[FR Doc. 00-22198 Filed 8-29-00; 8:45 am]

BILLING CODE 3510-DS-P